DEPARTMENT OF THE INTERIOR

Bureau of Land Management

[OR-958-1430-ET; GPO-0; OR-55334]

Public Land Order No. 7519; Withdrawal of National Forest System Land To Protect the White King/Lucky Lass Mine Reclamation Project Area; Oregon

AGENCY: Bureau of Land Management, Interior.

ACTION: Public land order.

SUMMARY: This order withdraws 40 acres of National Forest System land from location and entry under the United States mining laws until August 8, 2013, to protect the White King/Lucky Lass Mine reclamation project area. The land has been and will remain open to such forms of disposition as may by law be made of National Forest System land and to mineral leasing.

EFFECTIVE DATE: March 25, 2002.

FOR FURTHER INFORMATION CONTACT: Richard A. Woodward, Fremont National Forest, HC 10 Box 337, Lakeview, Oregon 97630, 541-947-2151.

SUPPLEMENTARY INFORMATION: By virtue of the authority vested in the Secretary of the Interior by section 204 of the Federal Land Policy and Management Act of 1976, 43 U.S.C. 1714 (1994), it is ordered as follows:

1. Subject to valid existing rights, the following described National Forest System land is hereby withdrawn from location or entry under the United States mining laws (30 U.S.C. Ch. 2 (1994)), to protect reclamation work on the White King/Lucky Lass Mine area:

Willamette Meridian

Fremont National Forest

T. 37 S., R. 19 E.,

Sec. 30, NW¼NE¼.

The area described contains 40.00 acres in Lake County.

2. The withdrawal made by this order does not alter the applicability of those public land laws governing the use of National Forest System land under lease, license, or permit, or governing the disposal of their mineral or vegetative resources other than under the mining laws.

3. This withdrawal will expire on August 8, 2013, unless, as a result of a review conducted before the expiration date pursuant to section 204(f) of the Federal Land Policy and Management Act of 1976, 43 U.S.C. 1714(f) (1994), the Secretary determines that the withdrawal shall be extended.

Dated: March 13, 2002.
Rebecca W. Watson,
Assistant Secretary.

[FR Doc. 02-7061 Filed 3-22-02; 8:45 am]

BILLING CODE 4310-33-P